FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Arca World Logistics, LLC (NVO & OFF), 700 Tuckaseegee Road, Charlotte, NC 28208. Officers: Jessica Somera, Vice President (QI), John N. Calhoun II, President. Application Type: New NVO & OFF License.

BGA Group International Freight Fowarders, Corp. (NVO), 1320 NW 78th Avenue, Miami, FL 33126. Officers: Carlos G. Medina-Luque, President (QI), Hilda Medina, Director. Application Type: New NVO License.

Consolidated Shipping Agencies Ltd (NVO & OFF), 2570 Beverly Drive, Suite 112, Aurora, IL 60502. Officers: Gordon A. Annan, Jr., COO/Secretary (QI), McDonald C. Vasnani, President. Application Type: New NVO & OFF License.

Evangel Shipping, Inc. (NVO & OFF), 12368 East Valley Blvd., Suite 104, El Monte, CA 91732. Officer: Xiu Juan Lai, President (QI). Application Type: Add OFF Service.

GrayLion Logistics, LLC (NVO & OFF), 8298 Bayberry Road, Suite 3, Jacksonville, FL 32256. Officers: Kinda Amirdash, Vice President (QI), Glenn Patch, President. Application Type: QI Change.

Intercargo USA Corp (NVO & OFF), 12555 Orange Drive, Suite 108, Davie, FL 33330. Officers: Gerben Zwaga, Vice President (QI), Alexandre Pimenta, Secretary of Treasury. Application Type: Transfer to Asia Shipping Integrated Logistics USA, LLC and Add OFF Service.

MJS Executive Enterprises, Inc. dba Team Six International (OFF), 2173 Salk Avenue, Suite 250, Carlsbad, CA 92008. Officers: Michael J. Stevenson, President (QI), Ilse M. Stevenson, Secretary. Application Type: New OFF License.

SR International Logistics, Inc. dba High Country Maritime (NVO & OFF), 2525 16th Street, Suite 208, Denver, CO 80211. Officer: David O. Ross, President (QI). Application Type: QI Change.

World Trading Cargo Corp (NVO & OFF), 2365 NW 70th Avenue, Unit C16, Miami, FL 33122. Officers: Elizabeth M. Valbuena, Vice President (QI). Mauricio A. Palma, President. Application Type: New NVO & OFF License.

By the Commission.
Dated: August 11, 2014.
Karen V. Gregory,
Secretary.

[FR Doc. 2014-19350 Filed 8-14-14; 8:45 am]

BILLING CODE 6730-01-P